DEPARTMENT OF HEALTH AND HUMAN SERVICES

[Document Identifier: OS-0990-; 30-day notice]

Agency Information Collection Request: 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collection within 30 days of this notice directly to the OS OMB Desk Officer; faxed to OMB at 202-395-5806.

Proposed Project: Multidisciplinary Health Care Models for Women Sustainability Assessment Survey—OMB No. 0990-NEW-Office of the Secretary/Office on Women's Health (OWH).

Abstract: The goal of this assessment is to identify and measure the key components of sustainability of federally funded programs. Specifically, this assessment will examine the extent to which organizations previously funded under OWH's Multidisciplinary Health Care Models for Women (MHMW) effort have sustained or enhanced the core components of the program after OWH funding ended, and identify factors that have facilitated or inhibited sustainability at MHMW program sites.

This assessment is designed to collect data from 48 MHMW program sites through four methods: (1) Abstraction of administrative data from grant and contract documents to establish a baseline understanding of each site, (2) a Web-based survey of key program staff at each site to determine the extent to which the five core components were implemented, (3) key informant interviews with core program staff, and/or other types of staff as necessary, to better understand the factors that influenced implementation and sustainability, and (4) in-person visits to 12 sites to collect in-depth information from additional types of staff, community partners, and clients. OWH is seeking approval from the Office of Management and Budget (OMB) for the Web-based survey and the key informant interviews.

Estimated Annualized Burden Table
Type of respondent | Form | Number of respondents | Number of responses per respondent | Average burden per response (hours) | Total burden hours
Key Site Staff | Web-based survey (Attachment A) | 48 | 1 | 95/60 | 76
Site Staff and Community Partners | Telephone Interview (Attachment B) | 48 | 1 | 90/60 | 72
Total |  |  |  |  | 148

Seleda Perryman,
Office of the Secretary, Paperwork Reduction Act Reports Clearance Officer.

[FR Doc. E9-22564 Filed 9-17-09; 8:45 am]

BILLING CODE 4150-33-P